FEDERAL COMMUNICATIONS COMMISSION

47 CFR Parts 2, 25 and 87

[ET Docket No. 98-142; FCC 02-23]

Mobile-Satellite Service Above 1 GHz; Correction

AGENCY: Federal Communications Commission.

ACTION: Final rule; correction.

SUMMARY: On April 10, 2002 (67 FR 17288), the Commission published final rules in the Report and Order, which revised the rules governing Mobile-Satellite Service. This document contains a correction to that rule.

DATES: Effective May 10, 2002.

FOR FURTHER INFORMATION CONTACT: Tom Mooring, Office of Engineering and Technology, (202) 418-2450, TTY (202) 418-2989, e-mail: tmooring@fcc.gov.

SUPPLEMENTARY INFORMATION: The Federal Communications Commission published a document amending part 25 in the Federal Register of April 10, 2002 (67 FR 17288). This document corrects the Federal Register as it appeared. In rule FR Doc. 02-8345 published on April 10, 2002 (67 FR 17288) the Commission makes the following correction to § 25.202 of the rules.

§ 25.202 [Corrected]

1. On page 17299, in the third column correct the amendatory language to § 25.202 to read as follows:

“5. Section 25.202(a)(1) is amended by revising the table, and by adding footnotes 14 and 15 to the table to read as follows:”

Federal Communications Commission.
Marlene H. Dortch,
Secretary.

[FR Doc. 02-14654 Filed 6-10-02; 8:45 am]

BILLING CODE 6712-01-P